UNITED STATES INSTITUTE OF PEACE

Sunshine Act Meeting

DATE/TIME: Thursday, September 20, 2001, 9:30 a.m.-5:30 p.m.

LOCATION: 1200 17th Street, NW, Suite 200, Washington, DC 20036-3011.

STATUS: Open Session—Portions may be closed pursuant to Subsection (c) of Section 552(b) of Title 5, United States Code, as provided in subsection 1706(h)(3) of the United States Institute of Peace Act, Public Law 98-525.

AGENDA: September 2001 Board Meeting; Approval of Minutes of the One Hundredth Meeting (June 21-23, 2001) of the Board of Directors;—Chairman's Report; President's Report; Committee Reports; Fiscal Years 2002 and 2003 Budget Review; Review of Unsolicited Grant Applications; Other General Issues.

CONTACT: Dr. Sheryl Brown, Director, Office of Communications, Telephone: (202) 457-1700.

Dated: August 29, 2001.
Charles E. Nelson,
Vice President for Management and Finance, United States Institute of Peace.

[FR Doc. 01-22392 Filed 8-31-01; 2:15 pm]

BILLING CODE 6820-AR-M